ENVIRONMENTAL PROTECTION AGENCY

40 CFR Part 52

[EPA-R07-OAR-2012-0767; FRL-9838-7]

Approval and Promulgation of Air Quality Implementation Plans; Missouri; Reasonably Available Control Technology (RACT) for the 8-Hour Ozone National Ambient Air Quality Standard (NAAQS)

AGENCY: Environmental Protection Agency (EPA).

ACTION: Proposed rule.

SUMMARY: EPA is proposing to approve a State Implementation Plan (SIP) revision submitted by the State of Missouri to EPA in a letter dated May 4, 2012. The purpose of the SIP revision is to amend Missouri's regulation for the Control of Volatile Organic Compounds (VOC) and meet the requirement to adopt reasonably available control technology (RACT) for sources covered by EPA's Control Technique Guidelines (CTG) for Industrial Cleaning Solvents. We are proposing to approve this revision because it satisfies the applicable requirements of the Clean Air Act (CAA) with respect to RACT for the Missouri portion of the St. Louis Metropolitan 1997 8-hour ozone nonattainment area.

DATES: Comments must be received on or before August 26, 2013.

ADDRESSES: Submit your comments identified by Docket ID No. EPA-R07-OAR-2012-0767, by one of the following methods:

1. http://www.regulations.gov: Follow the on-line instructions for submitting comments.

2. Email: kemp.lachala@epa.gov.

3. Mail or Hand Delivery or Courier: Lachala Kemp, Air Planning and Development Branch, Environmental Protection Agency Region 7, 11201 Renner Boulevard, Lenexa, Kansas 66219.

Instructions: Direct your comments to Docket ID No. EPA-R07-OAR-2012-0767. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket. All documents in the electronic docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the U.S. Environmental Protection Agency Region 7, 11201 Renner Boulevard, Lenexa, Kansas 66219, from 8 a.m. to 4:30 p.m., Monday through Friday, excluding Federal holidays. EPA requests that you contact the person listed in the FOR FURTHER INFORMATION CONTACT section to schedule your inspection. The interested persons wanting to examine these documents should make an appointment with the office at least 24 hours in advance.

FOR FURTHER INFORMATION CONTACT: Ms. Lachala Kemp, Air Planning and Development Branch, U.S. Environmental Protection Agency Region 7, 11201 Renner Boulevard, Lenexa, Kansas 66219; telephone number (913) 551-7214; email address: kemp.lachala@epa.gov.

SUPPLEMENTARY INFORMATION: Throughout this document, “we,” “us,” or “our” refer to EPA. This section provides additional information by addressing the following questions:

Table of Contents

I. What action is EPA proposing?

II. Statutory and Regulatory Background

III. Summary of Missouri's SIP Revision

IV. EPA's Proposed Action

V. Statutory and Executive Order Reviews

I. What action is EPA proposing?

EPA is proposing to approve a SIP revision submitted by the State of Missouri to EPA on May 4, 2012. The purpose of this revision is to control the emissions of VOCs, consistent with Control Techniques Guidelines (CTGs) issued by EPA, and to satisfy the RACT requirements of the CAA for the Missouri portion of the St. Louis metropolitan 1997 8-hour ozone nonattainment area. Specifically, the revision incorporates an amendment to an existing SIP-approved Missouri regulation 10 Code of State Regulations 10-5.455 to control emissions from Industrial Solvent Cleaning Operations in the St. Louis metropolitan area. The revision includes lowering the allowable emissions threshold for VOCs released per day from the use, storage and disposal of industrial cleaning solvents, and adds requirements for facilities that exceed the applicability threshold. EPA is proposing to approve this revision because the adoption by Missouri of this regulation represents RACT control levels for CTGs issued by EPA after 2006. In addition, EPA is proposing to approve this revision because it meets the requirements of the conditional approval the EPA issued on January 10, 2012. See 77 FR 3144 (January 23, 2012).

II. Statutory and Regulatory Background

CAA section 172(c)(1) requires that SIPs for nonattainment areas “provide for the implementation of all reasonably available control measures as expeditiously as practicable (including such reductions in emissions from existing sources in the area as may be obtained through the adoption, at a minimum, of reasonably available control technology) and shall provide for attainment of the national primary ambient air quality standards.” The St. Louis metropolitan area—which includes the counties of Franklin, Jefferson, St. Charles and St. Louis and the city of St. Louis in Missouri—is currently designated as a moderate nonattainment area under the 1997 8-hour ozone National Ambient Air Quality Standard (NAAQS).¹ For areas in moderate nonattainment with the ozone NAAQS, section 182(b)(2) requires states to submit SIP revisions to EPA that require sources of VOCs that are subject to a CTG issued by EPA, and all other major stationary sources,² in the nonattainment area to implement RACT.

¹ The St. Louis metropolitan area was also recently designated as a “marginal” nonattainment area for the 2008 ozone NAAQS.

² For a moderate nonattainment area, a major stationary source is one which emits, or has the potential to emit, one hundred tons per year or more of VOCs. See CAA section 302(j).

EPA has defined RACT as the lowest emissions limitation that a particular source is capable of meeting by the application of control technology that is reasonably available, considering technological and economic feasibility. See 44 FR 53761 (September 17, 1979). EPA provides states with guidance concerning what types of controls could constitute RACT for certain source categories through the issuance of CTGs. See 71 FR 58745, at 58747 (October 5, 2006).

Section 183(e) of the CAA provides that EPA may issue a CTG in lieu of a national regulation for categories of consumer or commercial products where the Administrator determines that such guidance will be substantially as effective as regulations in reducing VOC emissions in ozone nonattainment areas.

III. Summary of Missouri's SIP Revision

On January 10, 2012, EPA took final action to conditionally approve a SIP revision submitted by the State of Missouri to EPA on January 17, 2007, with a supplemental revision submitted to EPA on June 1, 2011. See 77 FR 3144 (January 23, 2012). As part of that action, EPA also approved several VOC rules adopted by Missouri and submitted to EPA in a letter dated August 16, 2011. All of these rules addressed VOC RACT requirements for sources in categories for which EPA issued CTGs during 2006-2008. However, in August 2011, Missouri did not submit a RACT rule for inclusion into the Missouri SIP to address one CTG: Solvent Cleanup Operations. Based on Missouri's commitment to submit a rule for inclusion into the SIP to address this remaining CTG by December 31, 2012, EPA conditionally approved the Missouri SIP revisions that address the requirements of RACT.

On May 4, 2012, the Missouri Department of Natural Resources (MDNR) submitted to EPA a proposed SIP revision demonstrating compliance with the RACT requirements set forth by the CAA under the 8-hour ozone NAAQS. This submittal addressed source categories for Industrial Cleaning Solvents, a new CTG issued by EPA on October 5, 2006, for which states were required to address by October 5, 2007 (71 FR 58745).³

³ Under section 183(b), EPA is required to periodically review and, as necessary, update CTGs.

This revision will ensure that the requirements of this CTG will be incorporated into the VOC RACT rules for the St. Louis moderate ozone nonattainment area. EPA has reviewed this new VOC rule revision with respect to the RACT requirements and the recommendations in the new CTG and proposes to find that this revision meets RACT. Moreover, this rule is designed to fulfill the requirements of EPA's conditional approval of Missouri's VOC RACT SIP. A brief description of the VOC rule that is proposed for approval in this action is provided below.

10 CSR 10-5.455 Control of Emissions From Industrial Solvent Cleaning Operations

This rule is intended to reduce the VOC emissions from industrial cleaning operations that use organic solvents. The rule amendment adopted by Missouri on April 28, 2011, and submitted to EPA for inclusion into the Missouri SIP lowered the allowable emissions threshold for volatile organic compounds released per day from the use, storage and disposal of industrial cleaning solvents, and added requirements for facilities that exceed the applicability threshold. The rule amendment adopted by Missouri on February 2, 2012, incorporated equipment cleaning work practices as a compliance option for manufacturers of coatings, inks and resins. EPA believes that these changes make the limits consistent with the recommendations in the Federal CTG for this source category.

As discussed above, EPA published a final rulemaking which approved Missouri's submittal with respect to several other VOC rules to address RACT requirements. See 77 FR 3144. Therefore, today's action only addresses the Industrial Cleaning Solvents source category. This proposal does not reopen any other aspect of Missouri's VOC RACT SIP.

IV. EPA's Proposed Action

In today's action, EPA is proposing to approve a revision to Missouri's VOC rule 10 CSR 10-5.455 into Missouri's SIP, as EPA believes that this rule satisfies RACT for the Missouri portion of the St. Louis nonattainment area for Industrial Cleaning Solvents. EPA also believes that this rule satisfies the requirements of the conditional approval of Missouri's VOC RACT SIP referenced above. This action, if final, would mean that the Missouri SIP meets all of the applicable VOC RACT requirements for St. Louis under section 182(b)(2) of the Act, as they relate to the 1997 ozone NAAQS.

V. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this proposed action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Incorporation by reference, Intergovernmental relations, Ozone, Reporting and recordkeeping requirements, Volatile organic compounds.

Dated: July 8, 2013.
Karl Brooks,
Regional Administrator, Region 7.

[FR Doc. 2013-18056 Filed 7-25-13; 8:45 am]

BILLING CODE 6560-50-P